FEDERAL MARITIME COMMISSION

Notice of Agreements Filed

The Commission hereby gives notice of the filing of the following agreements under the Shipping Act of 1984. Interested parties may submit comments, relevant information, or documents regarding the agreements to the Secretary by email at Secretary@fmc.gov, or by mail, Federal Maritime Commission, Washington, DC 20573. Comments will be most helpful to the Commission if received within 12 days of the date this notice appears in the Federal Register. Copies of agreements are available through the Commission's website (www.fmc.gov) or by contacting the Office of Agreements at (202) 523-5793 or tradeanalysis@fmc.gov.

Agreement No.: 201234-004.

Agreement Name: Agreement by Ocean Carriers to Participate on the Exchange Board.

Parties: CMA CGM S.A.; COSCO SHIPPING Co., Ltd.; COSCO SHIPPING Lines Co., Ltd.; Hapag-Lloyd AG; Hyundai Merchant Marine Co., Ltd.; Maersk A/S; and Ocean Network Express Pte. Ltd.

Filing Party: Ashley Craig; Venable LLP.

Synopsis: The amendment removes Pacific International Lines (Pte) Ltd as a party pursuant to Article 7 of the Agreement and updates the name and address of the Maersk entity that is a party to the Agreement.

Proposed Effective Date: 6/26/2020.

Location: https://www2.fmc.gov/FMC.Agreements.Web/Public/AgreementHistory/2064.

Agreement No.: 201235-004.

Agreement Name: Agreement by Ocean Common Carriers to Use Standard Service Contract Terms.

Parties: CMA CGM S.A.; COSCO SHIPPING Co., Ltd.; COSCO SHIPPING Lines Co., Ltd.; Hapag-Lloyd AG; Hyundai Merchant Marine Co., Ltd.; Maersk A/S; Orient Overseas Container Line Limited; OOCL (Europe) Limited; and Ocean Network Express Pte. Ltd.

Filing Party: Ashley Craig; Venable LLP.

Synopsis: The amendment removes Pacific International Lines (Pte) Ltd as a party pursuant to Article 7 of the Agreement and updates the name and address of the Maersk entity that is a party to the Agreement.

Proposed Effective Date: 6/26/2020.

Location: https://www2.fmc.gov/FMC.Agreements.Web/Public/AgreementHistory/2065.

Dated: May 15, 2020.
Rachel Dickon,
Secretary.

[FR Doc. 2020-10857 Filed 5-19-20; 8:45 am]

BILLING CODE 6730-02-P